Title 3—

The President

Proclamation 9848 of March 1, 2019

National Consumer Protection Week, 2019

By the President of the United States of America

A Proclamation

During National Consumer Protection Week, we redouble our efforts to prepare Americans to successfully navigate our dynamic market economy. Fraudulent and deceptive financial practices impede our economic success by depriving consumers of access to the best, most accurate information to guide their choices among competing goods and services.

We live in an age of rapidly evolving technology, in which more Americans conduct their personal and professional business on the internet and other mobile platforms. While these technological innovations provide convenience to consumers, they also create opportunities for scammers, hackers, and identity thieves to commit cybercrimes. Each year, fraudulent and deceptive practices cost Americans billions of dollars and generate hours of stress and hardship.

Whether managing bank accounts, paying bills, handling medical records, or engaging in e-commerce, basic consumer knowledge is critical to financial wellbeing. This includes being vigilant when providing personal information—such as social security and bank account numbers—online, over the phone, or by mail. Consumers should keep their software—including operating systems, web browsers, and applications—up to date. They should never provide personal or sensitive information to anyone who directly or unexpectedly contacts them. By taking these steps and sharing them with family and friends, especially children and older Americans, we can help protect against schemes to line the pockets of unscrupulous actors.

My Administration is strongly committed to protecting consumers from those who would defraud them. Last year, I signed into law the Economic Growth, Regulatory Relief, and Consumer Protection Act, which strengthens protections against identity theft by allowing consumers to contact each of the three major credit reporting agencies and freeze their credit reports for free. I also established the Task Force on Market Integrity and Consumer Fraud within the Department of Justice (DOJ) to provide recommendations on regulatory and legislative changes needed to improve the investigation and prosecution of fraud and other financial crimes that harm Americans. My Administration is also working to counter the growing threat of fraud committed against older Americans and has taken action to combat cyber fraud. In February 2018, the DOJ announced the largest coordinated sweep of elder fraud cases in history, as well as the indictment of 36 cyber criminals in one of the largest cyber fraud enterprise prosecutions ever.

National Consumer Protection Week is an opportunity to come together as government, industry, community groups, and organizations in support of a shared mission—protecting our Nation's consumers. This week, and throughout the year, I encourage Americans across our country to take advantage of resources that will help them better safeguard their personal and financial information so that they can continue to drive our dynamic economy for decades to come.

NOW, THEREFORE, I, DONALD J. TRUMP, President of the United States of America, by virtue of the authority vested in me by the Constitution and the laws of the United States, do hereby proclaim March 3 through March 9, 2019, as National Consumer Protection Week. I encourage individuals, businesses, organizations, government agencies, and community groups to take advantage of the broad array of online resources offered by the Federal Trade Commission and Consumer Financial Protection Bureau, and to share this information through consumer education activities in communities across the country.

IN WITNESS WHEREOF, I have hereunto set my hand this first day of March, in the year of our Lord two thousand nineteen, and of the Independence of the United States of America the two hundred and forty-third.

[FR Doc. 2019-04432

Filed 3-7-19; 11:15 am]

Billing code 3295-F9-P